DEPARTMENT OF AGRICULTURE

Submission for OMB Review; Comment Request

May 24, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Nebraska Rural Area Eligibility Determination Pilot.

OMB Control Number: 0584-NEW.

Summary of Collection: The Food and Nutrition Service (FNS), on behalf of the Secretary of Agriculture, is authorized by Public Law 108-265 (through Section 119 of the Child Nutrition and WIC Reauthorization Act of 2004) to establish a demonstration pilot of the Child and Adult Care Food Program (CACFP) in Nebraska rural areas only for each of the fiscal years 2006 and 2007 to determine eligibility for tier I reimbursement in areas in which poor economic conditions exist.

Need and Use of the Information: The survey questions have been designed to collect information that will address: (1) The number of Family Day Care Homes (FDCHs) offering meals through the CACFP; (2) the number of FDCHs offering meals as a tier I entity that would otherwise be defined as tier II FDCHs under program regulations; (3) the geographic location of FDCHs; (4) a description of services provided to eligible children; and (5) other factors determined by the Secretary. If the information is not collected authorizing legislation for the pilot cannot be addressed by the evaluation and furthermore, information relevant to the reason why providers participate in the CACFP and barriers to continued participation will not be collected.

Description of Respondents: Business or other for-profit.

Number of Respondents: 632.

Frequency of Responses: Report: Other (once).

Total Burden Hours: 405.

Ruth Brown,
Departmental Information Collection Clearance Officer.

[FR Doc. E7-10393 Filed 5-30-07; 8:45 am]

BILLING CODE 3410-30-P